DEPARTMENT OF COMMERCE

National Oceanic and Atmospheric Administration

RTID 0648-XD861

Atlantic Highly Migratory Species; Gear Considerations

AGENCY: National Marine Fisheries Service (NMFS), National Oceanic and Atmospheric Administration (NOAA), Commerce.

ACTION: Notice of availability of scoping document; request for comments.

SUMMARY: NMFS announces the availability of a scoping document to consider changes to gear regulations and requirements in fisheries targeting Atlantic highly migratory species (HMS). While management measures implemented since 1999 have helped achieve fishery management and conservation goals, the combination of over two decades of gear-specific measures may have had unanticipated consequences. Changes in species distribution, fishing gears, fishing techniques, market conditions, and fishing interests may warrant a reexamination of some gear-specific management measures to see if they are still meeting applicable goals. NMFS requests comments on the options presented in the scoping document as well as additional ideas that may warrant consideration.

DATES: Written comments on this notice of availability and the scoping document must be received on or before July 31, 2024. Three virtual scoping meetings will be held during the comment period. See SUPPLEMENTARY INFORMATION for all meeting dates and times.

ADDRESSES: Electronic copies of the scoping document and the public hearing presentation may also be obtained on the internet at: https://www.fisheries.noaa.gov/action/public-comment-requested-gear-considerations-atlantic-highly-migratory-species-fisheries. You may submit comments on this document, identified by NOAA-NMFS-2024-0050, via the Federal e-Rulemaking Portal. Go to https://www.regulations.gov, enter NOAA-NMFS-2024-0050 into the search box, click the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Guy DuBeck (Guy.DuBeck@noaa.gov), Steve Durkee (Steve.Durkee@noaa.gov), Becky Curtis (Becky.Curtis@noaa.gov), or Karyl Brewster-Geisz (Karyl.Brewster-Geisz@noaa.gov) by email, or by phone at (301) 427-8503 for information on the scoping document.

SUPPLEMENTARY INFORMATION:

Background

Atlantic HMS fisheries are managed under the 2006 Consolidated HMS Fishery Management Plan (FMP) and its amendments, pursuant to the Magnuson-Stevens Fishery Conservation and Management Act (Magnuson-Stevens Act; 16 U.S.C. 1801 et seq.) and consistent with the Atlantic Tunas Convention Act (ATCA; 16 U.S.C. 971 et seq.). HMS implementing regulations are at 50 CFR part 635. Under the Magnuson-Stevens Act, conservation and management measures must prevent overfishing while achieving, on a continuing basis, the optimum yield from each fishery (16 U.S.C. 1851(a)(1)). Where a fishery is determined to be in or approaching an overfished condition, NMFS must adopt conservation and management measures to prevent or end overfishing and rebuild the fishery (16 U.S.C. 1853(a)(10) and 1854(e)). In addition, NMFS must, among other things, comply with the Magnuson-Stevens Act's 10 national standards, including a requirement to use the best scientific information available as well as to consider potential impacts on residents of different States, efficiency, costs, fishing communities, bycatch, and safety at sea (16 U.S.C. 1851(a)(1-10)). Under ATCA, the Secretary shall promulgate regulations as may be necessary and appropriate to carry out binding recommendations adopted by the International Commission for the Conservation of Atlantic Tunas (ICCAT).

Since the 1999 Federal FMP for Atlantic Tunas, Swordfish, and Sharks and amendment 1 to the Atlantic Billfish FMP (64 FR 29090, May 28, 1999), NMFS has implemented a wide range of management measures specific to fishing gear in order to comply with the Magnuson-Stevens Act and ATCA. These management measures were designed to, among other things, prevent or stop overfishing and to minimize bycatch to the extent practicable. Many of these management measures included restrictions on fishing gear to reduce impacts on bycatch species, increase post-release survivability, limit the use of some gears to reduce lost and derelict gear, and meet other objectives as necessary. While each of these management measures helped achieve fishery management and conservation goals, the combination of over two decades of gear-specific measures may have had unanticipated consequences given the many changes in species distributions, fishing gears, fishing techniques, market conditions, and fishing interests that have occurred over the years. These unanticipated consequences could include limiting fishing opportunities, which in turn may limit the ability to achieve optimum yield from the fisheries. Additionally, these unanticipated consequences may reduce the ability of fishermen to adjust their fishing techniques to account for a changing environment and changing species distributions and/or to modify their gear to be more efficient or less likely to catch non-target species. As such, NMFS announces the availability of a scoping document and requests comments to consider whether certain gear-specific management measures are still meeting applicable goals. NMFS anticipates potential changes to gear regulations and requirements in fisheries targeting Atlantic HMS through a future rulemaking.

Scoping Document

In the scoping document, NMFS details a wide range of potential management options based on comments and suggestions from constituents, including members of the HMS Advisory Panel. See ADDRESSES section for information to access the scoping document and the public hearing presentation. NMFS is considering options to facilitate targeting of swordfish deeper in the water column; authorize additional species for certain gears along with gears under additional permit types; and address gear regulation inconsistencies across HMS and non-HMS fisheries.

The management measures presented in the scoping document should not be considered an exhaustive list. The management options are intended to facilitate discussion of the merits of each range of topics under consideration.

Request for Comments

NMFS invites public comment on the options presented in the scoping document as well as additional ideas that could provide increased flexibility and still meet applicable fishery management and conservation goals. Three virtual scoping meetings will be held during the comment period (table 1). Any comments received on the scoping document will be used to assist in the development of options to be considered in a future rulemaking.

Table 1—Dates, Times, and Information for Virtual Scoping Meeting Conference Calls/Webinars
Meeting type | Date, time | Conference call/webinar information
Conference calls/Webinars | May 29, 2024, 5 p.m.-7 p.m. ET June 28, 2024, 10 a.m.-12:00 p.m. ET. July 17, 2024, 1 p.m.-3 p.m. ET. | https://www.fisheries.noaa.gov/action/public-comment-requested-gear-considerations-atlantic-highly-migratory-species-fisheries.

The public is reminded that NMFS expects participants at virtual scoping meetings to conduct themselves appropriately. At the beginning of each meeting, a representative of NMFS will explain the ground rules (e.g., all comments are to be directed to the Agency; attendees will be called to give their comments in the order in which they registered to speak; each attendee will have an equal amount of time to speak; and attendees should not interrupt one another). A NMFS representative will attempt to structure the meeting so that all attending members of the public will be able to comment if they so choose, regardless of the controversial nature of the subject matter. If attendees do not respect the ground rules they will be asked to leave the scoping meeting. For the virtual scoping meetings, participants are strongly encouraged to log/dial in 15 minutes prior to the meeting. NMFS will show the presentations via webinar and allow public comment during identified times on the agenda.

In addition to the scoping meetings, NMFS will discuss the topics in the scoping document at the May 2024 HMS Advisory Panel meeting. The HMS Advisory Panel meeting will be accessible via conference call and webinar. Conference call and webinar access information are available at: https://www.fisheries.noaa.gov/action/public-comment-requested-gear-considerations-atlantic-highly-migratory-species-fisheries. NMFS has requested to present the scoping document to four Atlantic Regional Fishery Management Councils (the New England, Mid-Atlantic, South Atlantic, and Gulf of Mexico Fishery Management Councils) that are meeting during the public comment period. Please see the Councils' and Commissions' meeting notices for times and locations.

Dated: April 24, 2024.
Everett Wayne Baxter,
Acting Director, Office of Sustainable Fisheries, National Marine Fisheries Service.

[FR Doc. 2024-09269 Filed 5-2-24; 8:45 am]

BILLING CODE 3510-22-P